DEPARTMENT OF COMMERCE

International Trade Administration

[A-570-909]

Certain Steel Nails From the Peoples' Republic of China: Notice of Extension of Time Limits and Partial Rescission of the Second Antidumping Duty Administrative Review

AGENCY: Import Administration, International Trade Administration, Department of Commerce.

DATES: Effective Date: April 28, 2011.

FOR FURTHER INFORMATION CONTACT: Alexis Polovina, Timothy Lord, or Ricardo Martinez Rivera, Office 9, AD/CVD Operations, Import Administration, International Trade Administration, U.S. Department of Commerce, 14th Street and Constitution Avenue, NW., Washington, DC 20230; telephone: (202) 482-3927, (202) 482-7425, and (202) 482-4532, respectively.

Background

On August 2, 2010, the Department published a notice of opportunity to request an administrative review on the antidumping order on certain steel nails from the People's Republic of China (“PRC”) for the period of review (“POR”) August 1, 2009, through July 31, 2010. See Antidumping or Countervailing Duty Order, Finding, or Suspended Investigation; Opportunity To Request Administrative Review, 75 FR 45094 (August 2, 2010). Based upon requests for review from various parties, on September 29, 2010, the Department initiated the first antidumping duty administrative review on certain steel nails from the PRC, covering 222 companies. See Initiation of Antidumping and Countervailing Duty Administrative Reviews and Request for Revocation in Part, 75 FR 60076 (September 29, 2010) (“Initiation Notice”).

Statutory Time Limits

Section 751(a)(3)(A) of the Tariff Act of 1930, as amended (“Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of this review within the original time limit because the Department requires additional time to analyze the supplemental questionnaire responses. Further, the Department has provided parties additional time to submit surrogate value data and thus will require additional time to analyze these data. Therefore, the Department is extending the time limit for completion of the preliminary results by 90 days. The preliminary results will now be due no later than August 1, 2011. The final results continue to be due 120 days after the publication of the preliminary results.

Partial Rescission of Review

19 CFR 351.213(d)(1), states that if a party that requested an administrative review withdraws the request within 90 days of the publication of the notice of initiation of the requested review, the Secretary will rescind the review.

On December 23, 2010, Jisco Corporation and Qingdao Jisco Co., Ltd. withdrew their requests for an administrative review. On December 28, 2010, Petitioner ¹ partially withdrew its August 31, 2010, request for an administrative review for 160 companies. These companies include: 1) Beijing Hongsheng Metal Products Co., Ltd.; 2) Beijing Yonghongsheng Metal Products Co., Ltd.; 3) Cana (Tianjin) Hardware Ind., Co., Ltd.; 4) Chongqing Hybest Nailery Co., Ltd.; 5) Cintee Steel Products Co., Ltd.; 6) Cyber Express Corporation; 7) Dagang Zhitong Metal Products Co., Ltd.; 8) Dingzhou Ruili Nail Production Co., Ltd.; 9) Dong'e Fuqiang Metal Products Co., Ltd.; 10) Fujiansmartness Imp. & Exp. Co., Ltd.; 11) Fuzhou Builddirect Ltd.; 12) Guangdong Foreign Trade Import & Export Corporation; 13) Guangzhou Qiwei Imports and Exports Co., Ltd.; 14) GWP Industries (Tianjin) Co., Ltd.; 15) Haixing Hongda Hardware Production Co., Ltd.; 16) Haixing Linhai Hardware Products Factory; 17) Hangzhou Kelong Electrical Appliance & Tools Co., Ltd.; 18) Hangzhou New Line Co., Ltd.; 19) Hebei Cangzhou New Century Foreign Trade Co., Ltd.; 20) Hebei Super Star Pneumatic Nails Co., Ltd.; 21) Heretops (Hong Kong) International Ltd.; 22) Hilti (China) Limited; 23) Huadu Jin Chuan Manufactory Co Ltd.; 24) Huanghua Jinhai Metal Products Co., Ltd.; 25) Huanghua Shenghua Hardware Manufactory Factory; 26) Huanghua Xinda Nail Production Co., Ltd.; 27) Huanghua Yufutai Hardware Products Co., Ltd.; 28) Jisco Corporation; 29) Joto Enterprise Co., Ltd.; 30) Le Group Industries Corp. Ltd.; 31) Liang's Industrial Corp.; 32) Lijiang Liantai Trading Co., Ltd.; 33) Maanshan Cintee Steel Products Co., Ltd.; 34) Maanshan Leader Metal Products Co., Ltd.; 35) Maanshan Longer Nail Product Co., Ltd.; 36) Marsh Trading Ltd.; 37) Mingguang Abundant Hardware Products Co., Ltd.; 38) Ningbo Dollar King Industrial Co., Ltd.; 39) Ningbo KCN Electric Co., Ltd.; 40) Ningbo Ordam Import & Export Co., Ltd.; 41) OEC Logistics (Qingdao) Co. Ltd.; 42) Pacole International Ltd.; 43) Panagene Inc.; 44) Qingdao Bestworld Industry Trading; 45) Qingdao Denarius Manufacture Co. Limited; 46) Qingdao International Fastening Systems Inc.; 47) Qingdao Jisco Co., Ltd.; 48) Qingdao Koram Steel Co., Ltd.; 49) Qingdao Meijia Metal Products Co.; 50) Qingdao Rohuida International Trading Co., Ltd.; 51) Qingdao Sino-Sun International Trading Company Limited; 52) Qingdao Tiger Hardware Co., Ltd.; 53) Qingyuan County Hongyi Hardware Products Factory; 54) Qingyun Hognyi Hardware Factory; 55) Q-Yield Outdoor Great Ltd.; 56) Rizhao Changxing Nail-Making Co., Ltd.; 57) Rizhao Qingdong Electric Appliance Co., Ltd.; 58) SDC International Australia Pty., Ltd.; 59) Shandex Industrial Inc.; 60) Shandong Oriental Cherry Hardware Group Co., Ltd.; 61) Shandong Oriental Cherry Hardware Import and Export Co., Ltd.; 62) Shanghai Ding Ying Printing & Dyeing CLO; 63) Shanghai Holiday Import & Export Co., Ltd.; 64) Shanghai March Import & Export Company Ltd.; 65) Shanghai Nanhui Jinjun Hardware Factory; 66) Shanghai Pioneer Speakers Co., Ltd.; 67) Shanghai Yuet Commercial Consulting Co., Ltd.; 68) Shanxi Hairui Trade Co., Ltd.; 69) Shanxi Pioneer Hardware Industrial Co.. Ltd.; 70) Shanxi Tianli Enterprise Co.; 71) Shanxi Tianli Enterprise Co., Ltd.; 72) Shanxi Yuci Wire Material Factory; 73) Shaoguang International Trade Co.; 74) Shaoxing Chengye Metal Producting Co., Ltd.; 75) Shijizhuang Anao Imp & Export Co., Ltd.; 76) Shijizhuang Fangyu Import & Export Corp.; 77) Shijizhuang Glory Way Trading Co.; 78) S-Mart (Tianjin) Technology Development Co., Ltd.; 79) Suntec Industries Co., Ltd.; 80) Sunworld International Logistics; 81) Suzhou Yaotian Metal Products Co., Ltd.; 82) Tian Jin Sundy Co., Ltd., a.k.a Tianjin Sunny Co., Ltd.; 83) Tianjin Baisheng Metal Product Co., Ltd.; 84) Tianjin Bosai Hardware Tools Co., Ltd.; 85) Tianjin Certified Products Inc.; 86) Tianjin Chentai International Trading Co., Ltd.; 87) Tianjin City Dangang Area Jinding Metal Products Factory; 88) Tianjin City Daman Port Area Jinding Metal Products Factory; 89) Tianjin City Jinhchi Metal Products Co., Ltd.; 90) Tianjin Dagang Dongfu Metallic Products Co., Ltd.; 91) Tianjin Dagang Hewang Nail Factory; 92) Tianjin Dagang Hewang Nails Manufacture Plant; 93) Tianjin Dagang Huasheng Nailery Co., Ltd.; 94) Tianjin Dagang Jingang Nail Factory; 95) Tianjin Dagang Jingang Nails Manufacture Plant; 96) Tianjin Dagang Linda Metallic Products Co., Ltd.; 97) Tianjin Dagang Longhua Metal Products Plant; 98) Tianjin Dagang Shenda Metal Products Co., Ltd.; 99) Tianjin Dagang Yate Nail Co., Ltd.; 100) Tianjin Dery Import and Export Co., Ltd.; 101) Tianjin Foreign Trade (Group) Textile & Garment Co., Ltd.; 102) Tianjin Hewang Nail Making Factory; 103) Tianjin Huachang Metal Products Co., Ltd.; 104) Tianjin Huapeng Metal Company; 105) Tianjin Huasheng Nails Production Co., Ltd.; 106) Tianjin Jieli Hengyuan Metallic Products Co., Ltd.; 107) Tianjin Jietong Hardware Products Co., Ltd.; 108) Tianjin Jietong Metal Products Co., Ltd.; 109) Tianjin Jin Gang Metal Products Co., Ltd.; 110) Tianjin Jinin Pharmaceutical Factory Co., Ltd.; 111) Tianjin Jishili Hardware Co., Ltd.; 112) Tianjin JLHY Metal Products Co., Ltd.; 113) Tianjin Kunxin Hardware Co., Ltd.; 114) Tianjin Kunxin Metal Products Co., Ltd.; 115) Tianjin Linda Metal Company; 116) Tianjin Longxing (Group) Huanyu Imp. & Exp. Co., Ltd.; 117) Tianjin Master Fastener Co., Ltd.; 118) Tianjin Metals and Minerals; 119) Tianjin Port Free Trade Zone Xiangtong Intl. Industry & Trade Corp.; 120) Tianjin Qichuan Metal Products Co., Ltd.; 121) Tianjin Ruiji Metal Products Co., Ltd.; 122) Tianjin Shenyuan Steel Producting Group Co., Ltd.; 123) Tianjin Shishun Metal Product Co., Ltd.; 124) Tianjin Shishun Metallic Products Co., Ltd.; 125) Tianjin Xiantong Fucheng Gun Nail Manufacture Co., Ltd.; 126) Tianjin Xiantong Juxiang Metal MFG Co., Ltd.; 127) Tianjin Xiantong Material & Trade Co., Ltd.; 128) Tianjin Xinyuansheng Metal Products Co., Ltd.; 129) Tianjin Yihao Metallic Products Co., Ltd.; 130) Tianjin Yongchang Metal Product Co., Ltd.; 131) Tianjin Yongxu Metal Products Co., Ltd.; 132) Tianjin Yongye Furniture; 133) Tianjin Yongyi Standard Parts Production Co., Ltd.; 134) Tianjin Zhong Jian Wanli Stone Co., Ltd.; 135) Tianjin Zhongsheng Garment Co., Ltd.; 136) Unicatch Industrial Co., Ltd.; 137) Union Enterprise (Kushan) Co., Ltd.; 138) Wenzhou Yuwei Foreign Trade Co., Ltd.; 139) Wuhan Xinxin Native Produce & Animal By-Products Mfg. Co. Ltd.; 140) Wuhu Shijie Hardware Co., Ltd.; 141) Wuhu Xin Lan De Industrial Co., Ltd.; 142) Wuqiao County Huifeng Hardware Products Factory; 143) Wuqiao County Xinchuang Hardware Products Factory; 144) Wuqiao Huifeng Hardware Production Co., Ltd.; 145) Wuxi Baolin Nail-Making Machinery Co., Ltd.; 146) Wuxi Chengye Metal Products Co., Ltd.; 147) Wuxi Jinde Assets Management Co., Ltd.; 148) Xi'an Metals & Minerals Import and Export Co., Ltd.; 149) Xiamen New Kunlun Trade Co., Ltd.; 150) Yeswin Corporation; 151) Yiwu Excellent Import & Export Co., Ltd.; 152) Yiwu Richway Imp & Exp Co., Ltd.; 153) Yongcheng Foreign Trade Corp.; 154) Yu Chi Hardware Co., Ltd.; 155) Zhangjiagang Lianfeng Metals Products Co., Ltd.; 156) Zhangjiagang Longxiang Packing Materials Co., Ltd.; 157) Zhaoqing Harvest Nails Co., Ltd.; 158) Zhejiang Minmetals Sanhe Imp & Exp Co.; 159) Zhejian Taizhou Eagle Machinery Co.; and 160) ZJG Lianfeng Metals Product Ltd.

¹ Mid Continent Nail Corporation (“Petitioner”).

In accordance with 19 CFR 351.213(d)(1), the Department accordingly rescinds its review for those companies listed above and for which the request for review was withdrawn.

Assessment Rates

The Department will instruct U.S. Customs and Border Protection (“CBP”) to assess antidumping duties on all appropriate entries. For those companies for which this review has been rescinded and which have a separate rate from a prior segment of this proceeding, antidumping duties shall be assessed at rates equal to the cash deposit of estimated antidumping duties required at the time of entry, or withdrawal from warehouse, for consumption, in accordance with 19 CFR 351.212(c)(2). Accordingly, the Department intends to issue appropriate assessment instructions directly to CBP 15 days after publication of this notice for the following companies: 1) Beijing Hongsheng Metal Products Co., Ltd.; 2) Cana (Tianjin) Hardware Ind., Co., Ltd.; 3) Guangdong Foreign Trade Import & Export Corporation; 4) Hebei Cangzhou New Century Foreign Trade Co., Ltd.; 5) Huanghua Jinhai Metal Products Co., Ltd.; 6) Jisco Corporation; 7) Mingguang Abundant Hardware Products Co., Ltd.; 8) Qingdao Jisco Co., Ltd.; 9) SDC International Australia Pty., Ltd.; 10) Shandong Oriental Cherry Hardware Group Co., Ltd.; 11) Shandong Oriental Cherry Hardware Import and Export Co., Ltd.; 12) Shanxi Hairui Trade Co., Ltd.; 13) Shanxi Pioneer Hardware Industrial Co., Ltd.; 14) S-Mart (Tianjin) Technology Development Co., Ltd.; 15) Suntec Industries Co., Ltd.; 16) Tianjin Xiantong Material & Trade Co., Ltd; 17) Union Enterprise (Kushan) Co., Ltd.; 18) Wuhu Shijie Hardware Co., Ltd.; 19) Wuhu Xin Lan De Industrial Co., Ltd.; 20) Xi'an Metals & Minerals Import and Export Co., Ltd.; and 21) Zhaoqing Harvest Nails Co., Ltd.

For those companies list above which have not previously been assigned a separate rate from a prior segment of the proceeding, this administrative review will continue. The Department cannot order liquidation for companies which, although they are no longer under review as a separate entity, may still be under review as part of the PRC-wide entity. In this case, the Department cannot order liquidation for certain companies that do not currently have a separate rate, as an exporter, from either the investigation or previous administrative or new shipper reviews. Therefore, the Department cannot, at this time, order liquidation of entries for the following companies: 1) Beijing Yonghongsheng Metal Products Co., Ltd.; 2) Chongqing Hybest Nailery Co., Ltd.; 3) Cintee Steel Products Co., Ltd.; 4) Cyber Express Corporation; 5) Dagang Zhitong Metal Products Co., Ltd.; 6) Dingzhou Ruili Nail Production Co., Ltd.; 7) Dong'e Fuqiang Metal Products Co., Ltd.; 8) Fujiansmartness Imp. & Exp. Co., Ltd.; 9) Fuzhou Builddirect Ltd.; 10) Guangzhou Qiwei Imports and Exports Co., Ltd.; 11) GWP Industries (Tianjin) Co., Ltd.; 12) Haixing Hongda Hardware Production Co., Ltd.; 13) Haixing Linhai Hardware Products Factory; 14) Hangzhou Kelong Electrical Appliance & Tools Co., Ltd.; 15) Hangzhou New Line Co., Ltd.; 16) Hebei Super Star Pneumatic Nails Co., Ltd.; 17) Heretops (Hong Kong) International Ltd.; 18) Hilti (China) Limited; 19) Huadu Jin Chuan Manufactory Co Ltd.; 20) Huanghua Shenghua Hardware Manufactory Factory; 21) Huanghua Xinda Nail Production Co., Ltd.; 22) Huanghua Yufutai Hardware Products Co., Ltd.; 23) Joto Enterprise Co., Ltd.; 24) Le Group Industries Corp. Ltd.; 25) Liang's Industrial Corp.; 26) Lijiang Liantai Trading Co., Ltd.; 27) Maanshan Cintee Steel Products Co., Ltd.; 28) Maanshan Leader Metal Products Co., Ltd.; 29) Maanshan Longer Nail Product Co., Ltd.; 30) Marsh Trading Ltd.; 31) Ningbo Dollar King Industrial Co., Ltd.; 32) Ningbo KCN Electric Co., Ltd.; 33) Ningbo Ordam Import & Export Co., Ltd.; 34) OEC Logistics (Qingdao) Co. Ltd.; 35) Pacole International Ltd.; 36) Panagene Inc.; 37) Qingdao Bestworld Industry Trading; 38) Qingdao Denarius Manufacture Co. Limited; 39) Qingdao International Fastening Systems Inc.; 40) Qingdao Koram Steel Co., Ltd.; 41) Qingdao Meijia Metal Products Co.; 42) Qingdao Rohuida International Trading Co., Ltd.; 43) Qingdao Sino-Sun International Trading Company Limited; 44) Qingdao Tiger Hardware Co., Ltd.; 45) Qingyuan County Hongyi Hardware Products Factory; 46) Qingyun Hognyi Hardware Factory; 47) Q-Yield Outdoor Great Ltd. 48) Rizhao Changxing Nail-Making Co., Ltd.; 49) Rizhao Qingdong Electric Appliance Co., Ltd.; 50) Shandex Industrial Inc.; 51) Shanghai Ding Ying Printing & Dyeing CLO; 52) Shanghai Holiday Import & Export Co., Ltd.; 53) Shanghai March Import & Export Company Ltd.; 54) Shanghai Nanhui Jinjun Hardware Factory; 55) Shanghai Pioneer Speakers Co., Ltd.; 56) Shanghai Yuet Commercial Consulting Co., Ltd.; 57) Shanxi Tianli Enterprise Co.; 58) Shanxi Tianli Enterprise Co., Ltd.; 59) Shanxi Yuci Wire Material Factory; 60) Shaoguang International Trade Co.; 61) Shaoxing Chengye Metal Producting Co., Ltd.; 62) Shijizhuang Anao Imp & Export Co., Ltd.; 63) Shijizhuang Fangyu Import & Export Corp.; 64) Shijizhuang Glory Way Trading Co.; 65) Sunworld International Logistics; 66) Suzhou Yaotian Metal Products Co., Ltd.; 67) Tian Jin Sundy Co., Ltd., a.k.a Tianjin Sunny Co., Ltd.; 68) Tianjin Baisheng Metal Product Co., Ltd.; 69) Tianjin Bosai Hardware Tools Co., Ltd.; 70) Tianjin Certified Products Inc.; 71) Tianjin Chentai International Trading Co., Ltd.; 72) Tianjin City Dangang Area Jinding Metal Products Factory; 73) Tianjin City Daman Port Area Jinding Metal Products Factory; 74) Tianjin City Jinhchi Metal Products Co., Ltd.; 75) Tianjin Dagang Dongfu Metallic Products Co., Ltd.; 76) Tianjin Dagang Hewang Nail Factory; 77) Tianjin Dagang Hewang Nails Manufacture Plant; 78) Tianjin Dagang Huasheng Nailery Co., Ltd.; 79) Tianjin Dagang Jingang Nail Factory; 80) Tianjin Dagang Jingang Nails Manufacture Plant; 81) Tianjin Dagang Linda Metallic Products Co., Ltd.; 82) Tianjin Dagang Longhua Metal Products Plant; 83) Tianjin Dagang Shenda Metal Products Co., Ltd.; 84) Tianjin Dagang Yate Nail Co., Ltd.; 85) Tianjin Dery Import and Export Co., Ltd.; 86) Tianjin Foreign Trade (Group) Textile & Garment Co., Ltd.; 87) Tianjin Hewang Nail Making Factory; 88) Tianjin Huachang Metal Products Co., Ltd.; 89) Tianjin Huapeng Metal Company; 90) Tianjin Huasheng Nails Production Co., Ltd.; 91) Tianjin Jieli Hengyuan Metallic Products Co., Ltd.; 92) Tianjin Jietong Hardware Products Co., Ltd.; 93) Tianjin Jietong Metal Products Co., Ltd.; 94) Tianjin Jin Gang Metal Products Co., Ltd.; 95) Tianjin Jinin Pharmaceutical Factory Co., Ltd.; 96) Tianjin Jishili Hardware Co., Ltd.; 97) Tianjin JLHY Metal Products Co., Ltd.; 98) Tianjin Kunxin Hardware Co., Ltd.; 99) Tianjin Kunxin Metal Products Co., Ltd.; 100) Tianjin Linda Metal Company; 101) Tianjin Longxing (Group) Huanyu Imp. & Exp. Co., Ltd.; 102) Tianjin Master Fastener Co., Ltd.; 103) Tianjin Metals and Minerals; 104) Tianjin Port Free Trade Zone Xiangtong Intl. Industry & Trade Corp.; 105) Tianjin Qichuan Metal Products Co., Ltd,; 106) Tianjin Ruiji Metal Products Co., Ltd.; 107) Tianjin Shenyuan Steel Producting Group Co., Ltd.; 108) Tianjin Shishun Metal Product Co., Ltd.; 109) Tianjin Shishun Metallic Products Co., Ltd.; 110) Tianjin Xiantong Fucheng Gun Nail Manufacture Co., Ltd.; 111) Tianjin Xiantong Juxiang Metal MFG Co., Ltd.; 112) Tianjin Xinyuansheng Metal Products Co., Ltd.; 113) Tianjin Yihao Metallic Products Co., Ltd.; 114) Tianjin Yongchang Metal Product Co., Ltd.; 115) Tianjin Yongxu Metal Products Co., Ltd.; 116) Tianjin Yongye Furniture; 117) Tianjin Yongyi Standard Parts Production Co., Ltd.; 118) Tianjin Zhong Jian Wanli Stone Co., Ltd.; 119) Tianjin Zhongsheng Garment Co., Ltd.; 120) Unicatch Industrial Co., Ltd.; 121) Wenzhou Yuwei Foreign Trade Co., Ltd.; 122) Wuhan Xinxin Native Produce & Animal By-Products Mfg. Co. Ltd.; 123) Wuqiao County Huifeng Hardware Products Factory; 124) Wuqiao County Xinchuang Hardware Products Factory; 125) Wuqiao Huifeng Hardware Production Co., Ltd.; 126) Wuxi Baolin Nail-Making Machinery Co., Ltd.; 127) Wuxi Chengye Metal Products Co., Ltd.; 128) Wuxi Jinde Assets Management Co., Ltd.; 129) Xiamen New Kunlun Trade Co., Ltd.; 130) Yeswin Corporation; 131) Yiwu Excellent Import & Export Co., Ltd.; 132) Yiwu Richway Imp & Exp Co., Ltd.; 133) Yongcheng Foreign Trade Corp.; 134) Yu Chi Hardware Co., Ltd.; 135) Zhangjiagang Lianfeng Metals Products Co., Ltd.; 136) Zhangjiagang Longxiang Packing Materials Co., Ltd.; 137) Zhejiang Minmetals Sanhe Imp & Exp Co.; 138) Zhejian Taizhou Eagle Machinery Co.; and 139) ZJG Lianfeng Metals Product Ltd. The Department intends to issue liquidation instructions for the PRC-wide entity 15 days after publication of the final results of this review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice is issued and published in accordance with section 777(i)(1) of the Act and 19 CFR 351.213(d)(4).

Dated: April 22, 2011.
Gary Taverman,
Acting Deputy Assistant Secretary for Antidumping and Countervailing Duty Operations.

[FR Doc. 2011-10315 Filed 4-27-11; 8:45 am]

BILLING CODE 3510-DS-P